OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between January 1, 2008, and January 31, 2008. Future notices will be published on the fourth Tuesday of each month, or as soon as possible thereafter. A consolidated listing of all authorities as of June 30 is published each year.

Schedule A

No Schedule A appointments were approved for January 2008.

Schedule B

No Schedule B appointments were approved for January 2008.

Schedule C

The following Schedule C appointments were approved during January 2008.

Section 213.3303 Executive Office of the President

Office of Science and Technology Policy

TSGS80001 Policy Assistant to the Chief of Staff and General Counsel. Effective January 03, 2008.

Office of National Drug Control Policy

QQGS80003 Confidential Assistant to the Director to the Deputy Chief of Staff. Effective January 09, 2008.

QQGS80004 Policy Analyst to the Chief of Staff. Effective January 25, 2008.

Office of the United States Trade Representative

TNGS80001 Speechwriter to the Assistant U.S. Trade Representative for Public/Media Affairs. Effective January 18, 2008.

Section 213.3304 Department of State

DSGS60990 Senior Advisor to the Assistant Secretary for Near Eastern and South Asian Affairs. Effective January 08, 2008.

DSGS61277 Senior Advisor to the Deputy Assistant Secretary, Bureau of Near Eastern and South Asian Affairs. Effective January 15, 2008.

DSGS61278 Special Assistant to the Deputy Assistant Secretary, Bureau of Near Eastern and South Asian Affairs. Effective January 15, 2008.

DSGS61274 Special Assistant to the Chief of Protocol. Effective January 16, 2008.

DSGS61273 Public Affairs Specialist to the Assistant Secretary for Near Eastern and South Asian Affairs. Effective January 17, 2008.

DSGS61251 Staff Assistant to the Director, Policy Planning Staff. Effective January 23, 2008.

DSGS61051 Staff Assistant to the Senior Advisor to the Secretary and White House Liaison. Effective January 24, 2008.

DSGS62176 Foreign Affairs Officer to the Assistant Secretary for International Organizational Affairs. Effective January 25, 2008.

Section 213.3305 Department of the Treasury

DYGS00457 Policy Advisor to the Chief of Staff. Effective January 30, 2008.

DYGS00486 Special Assistant to the Director of Operations. Effective January 30, 2008.

Section 213.3306 Department of Defense

DDGS17123 Special Assistant to the Deputy Executive Secretary for Legislative Affairs. Effective January 02, 2008.

DDGS17128 Staff Assistant to the Assistant Secretary of Defense (International Security Affairs). Effective January 16, 2008.

Section 213.3309 Department of the Air Force

DFGS60016 Special Counsel and Special Assistant to the General Counsel. Effective January 22, 2008.

Section 213.3310 Department of Justice

DJGS00365 Special Assistant to the Attorney General to the Chief of Staff. Effective January 07, 2008.

DJGS00183 Counsel to the Chief of Staff. Effective January 08, 2008.

DJGS00089 Senior Advisor to the Associate Attorney General. Effective January 18, 2008.

DJGS00339 Special Assistant to the Attorney General. Effective January 30, 2008.

Section 213.3311 Department of Homeland Security

DMGS00730 Counselor to the Deputy Secretary of the Department of Homeland Security. Effective January 02, 2008.

DMGS00737 Confidential Assistant to the Counselor to the Deputy Secretary. Effective January 08, 2008.

DMGS00738 Deputy Director of Advance and Travel to the Director of Scheduling and Advance. Effective January 09, 2008.

DMGS00731 Special Assistant to the Under Secretary for Intelligence and Analysis. Effective January 10, 2008.

DMGS00742 Deputy Secretary Briefing Book Coordinator to the Executive Director for Operations and Administration. Effective January 29, 2008.

Section 213.3312 Department of the Interior

DIGS00115 Special Assistant (Communications and Legislation) to the Deputy Commissioner (Director of External and Intergovernmental Affairs). Effective January 15, 2008.

Section 213.3313 Department of Agriculture

DAGS00925 Senior Advisor to the Under Secretary for Farm and Foreign Agricultural Services. Effective January 02, 2008.

DAGS00930 Senior Advisor to the Under Secretary for Farm and Foreign Agricultural Services. Effective January 25, 2008.

DAGS00923 Associate Administrator, Special Nutrition Programs to the Administrator, Food and Nutrition Service. Effective January 04, 2008.

Section 213.3314 Department of Commerce

DCGS00495 Special Assistant to the Chief of Staff. Effective January 07, 2008.

DCGS00452 Confidential Assistant to the Chief of Staff. Effective January 08, 2008.

DCGS00575 Confidential Assistant to the Director Office of White House Liaison. Effective January 08, 2008.

DCGS00237 Senior Advisor to the Under Secretary for International Trade. Effective January 22, 2008.

DCGS00526 Confidential Assistant to the Under Secretary for International Trade. Effective January 29, 2008.

DCGS00391 Special Assistant to the Under Secretary for Economic Affairs. Effective January 30, 2008.

Section 213.3315 Department of Labor

DLGS60119 Staff Assistant to the Associate Counselor to the Secretary. Effective January 03, 2008.

DLGS60130 Legislative Assistant to the Assistant Secretary for Congressional and Intergovernmental Affairs. Effective January 03, 2008.

DLGS60247 Legislative Assistant to the Assistant Secretary for Congressional and Intergovernmental Affairs. Effective January 11, 2008.

DLGS60092 Senior Attorney Adviser to the Solicitor of Labor. Effective January 14, 2008.

DLGS60079 Staff Assistant to the Assistant Secretary for Policy. Effective January 18, 2008.

DLGS60097 Special Assistant to the Assistant Secretary for Administration and Management. Effective January 18, 2008.

Section 213.3316 Department of Health and Human Services

DHGS60070 Special Assistant to the Assistant Secretary for Planning and Evaluation. Effective January 17, 2008.

DHGS60071 Special Assistant to the Assistant Secretary for Planning and Evaluation. Effective January 23, 2008.

DHGS60072 Confidential Assistant to the Assistant Secretary for Planning and Evaluation. Effective January 23, 2008.

Section 213.3317 Department of Education

DBGS00462 Special Assistant to the Assistant Secretary, Office of Communications and Outreach. Effective January 04, 2008.

DBGS00306 Deputy Assistant Secretary to the Assistant Secretary for Legislation and Congressional Affairs. Effective January 09, 2008.

DBGS00554 Confidential Assistant to the Deputy Chief of Staff for Policy and Programs. Effective January 09, 2008.

DBGS00217 Chief of Staff to the Assistant Secretary for Planning, Evaluation, and Policy Development. Effective January 29, 2008.

DBGS00379 Confidential Assistant to the Assistant Secretary for Postsecondary Education. Effective January 30, 2008.

Section 213.3318 Environmental Protection Agency

EPGS07027 Strategic Scheduler to the Deputy Chief of Staff (Operations). Effective January 11, 2008.

EPGS08001 Press Assistant to the Associate Administrator for Public Affairs. Effective January 25, 2008.

EPGS08002 Deputy Associate Administrator to the Associate Administrator for Public Affairs. Effective January 25, 2008.

Section 213.3325 United States Tax Court

JCGS60075 Trial Clerk to the Chief Judge. Effective January 24, 2008.

Section 213.3331 Department of Energy

DEGS00630 Senior Advisor for Communications to the Director, Office of Technology Advancement and Outreach. Effective January 04, 2008.

DEGS00627 Special Assistant for Communications to the Assistant Secretary (Electricity Delivery and Energy Reliability). Effective January 03, 2008.

DEGS00628 Assistant Press Secretary to the Director, Public Affairs. Effective January 03, 2008.

DEGS00631 Special Assistant to the Assistant Secretary for Congressional and Intergovernmental Affairs. Effective January 18, 2008.

DEGS00632 Special Assistant to the Chief of Staff. Effective January 18, 2008.

DEGS00634 Special Assistant to the White House Liaison. Effective January 18, 2008.

DEGS00633 Press Secretary to the Director, Public Affairs. Effective January 23, 2008.

DEGS00636 Special Assistant to the Director, Public Affairs. Effective January 30, 2008.

Section 213.3332 Small Business Administration

SBGS02645 Senior Advisor to the Administrator. Effective January 18, 2008.

SBGS02646 Senior Advisor to the Associate Administrator for Entrepreneurial Development. Effective January 18, 2008.

SBGS00641 Director, Office of Strategic Alliance to the Associate Administrator for Communications and Public Liaison. Effective January 22, 2008.

SBGS00642 Assistant Administrator for Intergovernmental Affairs to the Chief of Staff. Effective January 22, 2008.

SBGS00643 Deputy Associate Administrator for Field Operations to the Associate Administrator for Field Operations. Effective January 22, 2008.

SBGS00648 White House Liaison to the Administrator. Effective January 29, 2008.

Section 213.3346 Selective Service System

SSGS03359 Executive Officer/Chief of Staff to the Director Selective Service System. Effective January 28, 2008.

Section 213.3356 Commission on Civil Rights

CCGS60029 Special Assistant to the Commissioner. Effective January 24, 2008.

Section 213.3357 National Credit Union Administration

CUOT00025 Staff Assistant to a Board Member. Effective January 07, 2008.

Section 213.3379 Commodity Futures Trading Commission

CTOT00094 Attorney Advisor (General) to the Chairperson. Effective January 18, 2008.

Section 213.3382 National Endowment for the Humanities

NHGS60075 Director of Communications to the Deputy Chairman. Effective January 09, 2008.

Section 213.3384 Department of Housing and Urban Development

DUGS60276 Staff Assistant to the Assistant Secretary for Housing, Federal Housing Commissioner. Effective January 03, 2008.

DUGS60357 Staff Assistant to the Chief of Staff. Effective January 10, 2008.

DUGS60270 Staff Assistant to the Chief of Staff. Effective January 25, 2008.

DUGS60427 Staff Assistant to the Assistant Secretary for Administration/Chief Human Capital Officer. Effective January 25, 2008.

Section 213.3394 Department of Transportation

DTGS60383 Assistant to the Secretary for Policy to the Chief of Staff. Effective January 03, 2008.

DTGS60243 Speechwriter to the Associate Director for Speechwriting. Effective January 09, 2008.

DTGS60055 Associate Director for Governmental Affairs to the Assistant Secretary for Governmental Affairs. Effective January 16, 2008

DTGS60341 Associate Director for Governmental Affairs to the Deputy Assistant Secretary for Governmental Affairs. Effective January 23, 2008.

DTGS60287 Special Assistant for Scheduling and Advance to the Director for Scheduling and Advance. Effective January 29, 2008.

DTGS60375 White House Liaison to the Chief of Staff. Effective January 29, 2008.

Authority: 5 U.S.C. 3301 and 3302; E.O. 10577, 3 CFR 1954-1958 Comp., p. 218.

Office of Personnel Management.
Howard C. Weizmann,
Deputy Director.

[FR Doc. E8-4088 Filed 3-3-08; 8:45 am]

BILLING CODE 6325-39-P